DEPARTMENT OF VETERANS AFFAIRS

[OMB Control No. 2900-0822]

Agency Information Collection Activity: Camp Lejeune Family Member Program—Reimbursement of Certain Medical Expenses

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before July 28, 2025.

ADDRESSES: Comments must be submitted through www.regulations.gov.

FOR FURTHER INFORMATION CONTACT:

Program-specific information: Rebecca Mimnall, 202-695-9434, vhacopra@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Camp Lejeune Family Member Program—Reimbursement of Certain Medical Expenses (VA Forms 10-10068, 10-10068a, 10-10068b and 10-10068c).

OMB Control Number: 2900-0822. https://www.reginfo.gov/public/do/PRASearch (Once at this link, you can enter the OMB Control Number to find the historical versions of this Information Collection.)

Type of Review: Revision of a currently approved collection.

Abstract: Pursuant to 38 U.S.C. 1787, VA is required to furnish hospital care and medical services to the family members of certain veterans who were stationed at Camp Lejeune between 1953 and 1987 and have specified medical conditions. The specific hospital care and medical services that VA must provide are for a number of illnesses and conditions connected to exposure to contaminated drinking water while at Camp Lejeune. In order to furnish such care, VA must collect necessary information from the family members to ensure that they meet the requirements of the law.

The forms in this collection are VA Form 10-10068—Application, VA Form 10-10068a—Claim Form, VA Form 10-10068b—Treating Physician Report, and VA Form 10-10068c—Information Update Form. These forms will be used to determine eligibility and reimbursement for the covered medical care. Some minor changes to the wording in VA Form 10-10068b have been made to clarify the information being collected from the treating physician. There are no changes to the estimated numbers of respondents and burden hours.

Affected Public: Individuals or Households.

Estimated Annual Burden: Total hours = 5,838 hours.

10-10068—815 hours.

10-10068a—4,480 hours.

10-10068b—407 hours.

10-10068c—136 hours.

Estimated Average Burden per Respondent:

10-10068—30 minutes.

10-10068a—15 minutes.

10-10068b—15 minutes.

10-10068c—15 minutes.

Frequency of Response:

10-10068—Once annually.

10-10068a—11 times per year.

10-10068b—Once annually.

10-10068c—Once annually.

Estimated Number of Respondents: Total Respondents = 21,720.

10-10068—1,629.

10-10068a—17,919.

10-10068b—1,629.

10-10068c—543.

Authority: 44 U.S.C. 3501 et seq.

Lanea Haynes,
Acting, VA PRA Clearance Officer, (Alt.) Office of Enterprise and Integration/Data Governance Analytics, Department of Veterans Affairs.

[FR Doc. 2025-09588 Filed 5-28-25; 8:45 am]

BILLING CODE 8320-01-P